FEDERAL DEPOSIT INSURANCE CORPORATION

12 CFR Part 328

RIN 3064-AF26

FDIC Official Signs and Advertising Requirements, False Advertising, Misrepresentation of Insured Status, and Misuse of the FDIC's Name or Logo

AGENCY: Federal Deposit Insurance Corporation (FDIC).

ACTION: Final rule; delay of compliance date.

SUMMARY: On December 20, 2023, the FDIC adopted a final rule that, among other things, amended the FDIC's official sign and advertisement of membership requirements for insured depository institutions (IDIs). The current compliance date for requirements related to displaying the official digital sign on IDIs' digital deposit-taking channels and automated teller machines (ATMs) and like devices is March 1, 2026. The FDIC is delaying the March 1, 2026, compliance date to January 1, 2027. This delay will provide certainty and minimize undue burden on IDIs while the FDIC completes consideration of a proposal to amend requirements related to digital deposit-taking channels and ATMs and like devices.

DATES: The compliance date for the requirements in 12 CFR 328.4 and 328.5, which was initially delayed at 89 FR 84261 (October 22, 2024) and was subsequently delayed at 90 FR 11659 (March 11, 2025), is further delayed to January 1, 2027.

FOR FURTHER INFORMATION CONTACT: Division of Depositor and Consumer Protection: Monika Jansen, Senior Policy Analyst, 202-898-6781, MoJansen@fdic.gov. Legal Division: Shane Bogusz, Senior Attorney, 202-898-6571, SBogusz@FDIC.gov.

SUPPLEMENTARY INFORMATION: On December 20, 2023, the FDIC adopted a final rule ¹ revising the official sign and advertising regulations implementing section 18(a) of the Federal Deposit Insurance Act.²

¹ 89 FR 3504.

² 12 U.S.C. 1828(a).

The final rule became effective on April 1, 2024, and required full compliance with the rule by January 1, 2025. Based upon feedback from IDIs and other industry participants, the FDIC delayed the compliance date for the amendments in subpart A of 12 CFR part 328 to May 1, 2025.³ The delay was intended to provide additional time for IDIs to put in place processes and systems and make technological updates. In March 2025, the compliance date was further delayed as to the requirements in 12 CFR 328.4 and 328.5.⁴ This second delay recognized that the requirements of 12 CFR 328.4 and 328.5, relating to signage requirements for digital deposit-taking channels and ATMs and like devices, continued to generate questions regarding implementation and had the potential to cause consumer confusion. The delay allowed the FDIC to consider proposing changes to these requirements, which it did on August 21, 2025.⁵

³ 89 FR 84261 (Oct. 22, 2024).

⁴ 90 FR 11659 (Mar. 11, 2025).

⁵ 90 FR 40767.

Specifically, on August 21, 2025, the FDIC issued a notice of proposed rulemaking seeking comment on a proposal that would amend the requirements of 12 CFR 328.4 and 328.5 to minimize identified implementation issues, reduce burden, and address potential consumer confusion. Given that the FDIC is considering changes to 12 CFR 328.4 and 328.5, the approaching March 1, 2026, compliance deadline for the present requirements of 12 CFR 328.4 and 328.5 has created uncertainty and could impose unnecessary burden on IDIs. To address these concerns, the FDIC is delaying the compliance date for the requirements in 12 CFR 328.4 and 328.5 from March 1, 2026, to January 1, 2027.⁶ This delayed compliance date is subject to any changes to these provisions made by any future rulemaking.

⁶ The policies and procedures required by 12 CFR 328.8 for which the compliance date is May 1, 2025, will not need to address the requirements in 12 CFR 328.4 or 328.5, until January 1, 2027, the full compliance date for these provisions.

Federal Deposit Insurance Corporation.
By order of the Board of Directors.
Dated at Washington, DC, on November 25, 2025.
Jennifer M. Jones,
Deputy Executive Secretary.

[FR Doc. 2025-21461 Filed 11-26-25; 8:45 am]

BILLING CODE 6714-01-P